DEPARTMENT OF AGRICULTURE

Forest Service

Tri-County Resource Advisory Committee

AGENCY: Forest Service, USDA.

ACTION: Notice of meeting.

SUMMARY: The Tri-County Resource Advisory Committee (RAC) will meet in Deer Lodge, Montana. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/bdnf/workingtogether/advisorycommittees.

DATES: The meeting will be held on Wednesday, March 25, 2020 at 9 a.m.

All RAC meetings are subject to cancellation. For status of the meeting prior to attendance, please contact the person listed under For Further Information Contact.

ADDRESSES: The meeting will be held at the Powell County Community Center, 416 Cottonwood Avenue, Deer Lodge, MT 59722.

Written comments may be submitted as described under Supplementary Information. All comments, including names and addresses when provided, are placed in the record and are available for public inspection and copying. The public may inspect comments received at the Beaverhead-Deerlodge National Forest Supervisor's Office. Contact 406-683-3987 to facilitate entry into the building.

FOR FURTHER INFORMATION CONTACT: Jeanne Dawson, RAC Coordinator, by phone at 406-683-3987 or by email at jeanne.dawson@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Introduce the new RAC members;

2. Elect a Tri-County RAC Chairperson;

3. Discuss and determine if the RAC would recommend fee change proposals for developed recreation sites on National Forest lands;

4. Discuss and determine whether RAC funds will be used to fund committee members' travel costs to the public meetings;

5. Discuss and recommend new Title II projects.

The meeting is open to the public. The agenda will include time for people to make oral statements of three minutes or less. Individuals wishing to make an oral statement should request in writing by Wednesday, March 11, 2020, to be scheduled on the agenda. Anyone who would like to bring related matters to the attention of the committee may file written statements with the committee staff before or after the meeting. Written comments and requests for time for oral comments must be sent to Jeanne Dawson, RAC Coordinator, 420 Barrett Street, Dillon, MT 59725; by email to jeanne.dawson@usda.gov, or via facsimile to 406-683-3855.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: February 5, 2020.
Cikena Reid,
USDA Committee Management Officer.

[FR Doc. 2020-02611 Filed 2-10-20; 8:45 am]

BILLING CODE 3411-15-P